SMALL BUSINESS ADMINISTRATION

Export Express Pilot Program

AGENCY: U.S. Small Business Administration (SBA).

ACTION: Notice of Pilot Program extension.

SUMMARY: This notice announces the extension of SBA's Export Express Pilot Program until September 30, 2007. This extension will allow time for the Agency to finalize its analyses of this program and also complete internal discussions regarding potential modifications and enhancements to the Program.

DATES: The Export Express Pilot Program is extended under this notice until September 30, 2007.

FOR FURTHER INFORMATION CONTACT: Charles Thomas, Office of Financial Assistance, U.S. Small Business Administration, 409 Third Street, Washington, DC 20416; Telephone (202) 205-6490; charles.thomas@sba.gov.

SUPPLEMENTARY INFORMATION: The Export Express Pilot Program is a subprogram of the SBAExpress Program. It was established in 1998 to assist current and prospective small exporters, particularly those needing revolving lines of credit. Export Express generally conforms to the streamlined procedures of SBAExpress, although it carries SBA's full 75-85 percent guaranty. The maximum loan amounts under this Program are limited to $250,000. SBA previously extended Export Express until November 30, 2005 (70 FR 56962), again to May 31, 2006 (70 FR 71363), and then again to December 31, 2006 (71 FR 29703), to consider possible changes and enhancements to the Program.

The further extension of this Program until September 30, 2007, will allow the SBA to more fully evaluate the results and impact of the Program and to consider possible changes and enhancements to the Program. It will also allow SBA to further consult with its lending partners, the small business community and its oversight authorities about the programs.

(Authority: 13 CFR 120.3).

Janet A. Tasker,
Acting Associate Administrator for Financial Assistance.

[FR Doc. E6-21356 Filed 12-14-06; 8:45 am]

BILLING CODE 8025-01-P